OFFICE OF MANAGEMENT AND BUDGET

Federal Regulatory Review

AGENCY: Office of Management and Budget, Executive Office of the President.

ACTION: Request for comments.

SUMMARY: The Director of the Office of Management and Budget (OMB) is developing a set of recommendations to the President for a new Executive Order on Federal Regulatory Review, and invites public comments on how to improve the process and principles governing regulation.

DATES: Comments must be in writing and received by March 16, 2009.

ADDRESSES: Submit comments by one of the following methods:

• E-mail: oira_submission@omb.eop.gov.

• Fax: (202) 395-7245.

• Mail: Office of Information and Regulatory Affairs, Records Management Center, Office of Management and Budget, Attn: Mabel Echols, Room 10102, NEOB, 725 17th Street, NW.,Washington, DC 20503. We are still experiencing delays in the regular mail, including first class and express mail. To ensure that your comments are received on time, we recommend that comments be electronically submitted.

All comments submitted in response to this notice will be made available to the public on OMB's Web site. For this reason, please do not include in your comments information of a confidential nature, such as sensitive personal information or proprietary information. If you send an e-mail comment directly to OMB, your e-mail address will be automatically captured and included as part of the comment that is placed in the public docket and made available on the Internet.

FOR FURTHER INFORMATION CONTACT: Mabel Echols, Office of Information and Regulatory Affairs, Records Management Center, Office of Management and Budget, Room 10102, NEOB, 725 17th Street, NW., Washington, DC 20503. Telephone: (202) 395-6880.

SUPPLEMENTARY INFORMATION: For well over two decades, the Office of Information and Regulatory Affairs (OIRA) at OMB has reviewed Federal regulations. The purposes of such review have been to ensure consistency with Presidential priorities, to coordinate regulatory policy, and to offer a dispassionate and analytical ”second opinion” on agency actions.

In a recent Memorandum for the Heads of Executive Departments and Agencies, published in the Federal Register [74 FR 5977], the President directed the Director of OMB to produce a set of recommendations for a new Executive Order on Federal regulatory review. Among other things, he stated that the recommendations should offer suggestions for the following:

• The relationship between OIRA and the agencies;

• Disclosure and transparency;

• Encouraging public participation in agency regulatory processes;

• The role of cost-benefit analysis;

• The role of distributional considerations, fairness, and concern for the interests of future generations;

• Methods of ensuring that regulatory review does not produce undue delay;

• The role of the behavioral sciences in formulating regulatory policy; and

• The best tools for achieving public goals through the regulatory process.

Executive Orders are not subject to notice and comment procedures, and as a general rule, public comment is not formally sought before they are issued. In this case, however, there has been an unusually high level of public interest, and because of the evident importance and fundamental nature of the relevant issues, the Director of OMB invites public comments on the principles and procedures governing regulatory review. These comments will be read and considered seriously even though no responses will be given.

This public process is not intended to, and does not, create any right or benefit, substantive or procedural, enforceable at law or in equity by any party against the United States, its departments, agencies, or entities, its officers, employees, or agents, or any other person.

Kevin F. Neyland,
Acting Administrator, Office of Information and Regulatory Affairs.

[FR Doc. E9-4080 Filed 2-25-09; 8:45 am]

BILLING CODE 3110-01-P